NUCLEAR REGULATORY COMMISSION

Solicitation of Public Comments on the Implementation of the Reactor Oversight Process

AGENCY: Nuclear Regulatory Commission.

ACTION: Request for public comment.

SUMMARY: The NRC is soliciting comments from members of the public, licensees, and interest groups related to the implementation of the Reactor Oversight Process (ROP). An electronic version of the survey questions may be obtained from http://www.nrc.gov/NRR/OVERSIGHT/ASSESS/rop2006survey.pdf. This solicitation will provide insights into the self-assessment process and a summary of the feedback will be included in the annual ROP self-assessment report to the Commission.

DATES: The comment period expires on December 1, 2006. The NRC will consider comments received after this date if it is practical to do so, but is only able to ensure consideration of comments received on or before this date.

ADDRESSES: Completed questionnaires and/or comments may be e-mailed to nrcrep@nrc.gov or sent to Michael T. Lesar, Chief, Rulemaking, Directives and Editing Branch, Office of Administration (Mail Stop T-6D59), U.S. Nuclear Regulatory Commission, Washington, DC 20555-0001. If you choose to send your response using email, please include appropriate contact information so the NRC can follow-up on the comments. Comments may also be hand-delivered to Mr. Lesar at 11545 Rockville Pike, Rockville, Maryland, between 7:30 a.m. and 4:15 p.m. on Federal workdays.

Documents created or received at the NRC after November 1, 1999, are available electronically through the NRC's Public Electronic Reading Room on the Internet at http://www.nrc.gov/reading-rm.html. From this site, the public can access the NRC's Agencywide Documents Access and Management System (ADAMS), which provides text and image files of the NRC's public documents. For more information, contact the NRC's Public Document Room (PDR) reference staff at 301-415-4737 or 800-397-4209, or by e-mail at pdr@nrc.gov.

FOR FURTHER INFORMATION CONTACT: Mr. Bart Fu, Office of Nuclear Reactor Regulation (Mail Stop: OWFN 7H2), U.S. Nuclear Regulatory Commission, Washington DC 20555-0001. Mr. Fu can also be reached by telephone at 301-415-2467 or by e-mail at ZBF@NRC.GOV.

SUPPLEMENTARY INFORMATION:

Program Overview

The mission of the NRC is to license and regulate the Nation's civilian use of byproduct, source, and special nuclear materials to ensure adequate protection of public health and safety, promote the common defense and security, and protect the environment. This mission is accomplished through the following activities:

• License nuclear facilities and the possession, use, and disposal of nuclear materials.

• Develop and implement requirements governing licensed activities.

• Inspect and enforce licensee activities to ensure compliance with these requirements and the law.

While the NRC's responsibility is to monitor and regulate licensees' performance, the primary responsibility for safe operation and handling of nuclear materials rests with each licensee.

As the nuclear industry in the United States has matured, the NRC and its licensees have learned much about how to safely operate nuclear facilities and handle nuclear materials. In April 2000, the NRC began to implement more effective and efficient inspection, assessment, and enforcement approaches, which apply insights from these years of regulatory oversight and nuclear facility operation. Key elements of the Reactor Oversight Process (ROP) include NRC inspection procedures, plant performance indicators, a significance determination process, and an assessment program that incorporates various risk-informed thresholds to help determine the level of NRC oversight and enforcement. Since ROP development began in 1998, the NRC has frequently communicated with the public by various initiatives: conducted public meetings in the vicinity of each licensed commercial nuclear power plant, issued FRNs to solicit feedback on the ROP, published press releases about the new process, conducted multiple public workshops, placed pertinent background information in the NRC's Public Document Room, and established an NRC Web site containing easily accessible information about the ROP and licensee performance.

NRC Public Stakeholder Comments

The NRC continues to be interested in receiving feedback from members of the public, various public stakeholders, and industry groups on their insights regarding the calendar year 2006 implementation of the ROP. In particular, the NRC is seeking responses to the questions listed below, which will provide important information that the NRC can use in ongoing program improvement. A summary of the feedback obtained will be provided to the Commission and included in the annual ROP self-assessment report.

This solicitation of public comments has been issued each year since ROP implementation in 2000. Although written responses are encouraged, there are specific choices to best describe your experience to enable us to more objectively determine your level of satisfaction.

Questions

In responding to these questions, please consider your experiences using the NRC oversight process.

Shade in the circle that most applies to your experiences as follows:

(1) Strongly Agree (2) Agree (3) Neutral (4) Disagree (5) Strongly Disagree

If there are experiences that are rated as unsatisfactory, or if you have specific thoughts or concerns, please elaborate in the “Comments” section that follows the question and offer your opinion for possible improvements. If there are experiences or opinions that you would like to express that cannot be directly captured by the questions, document that in the last question of the survey.

Questions Related to Specific Reactor Oversight (ROP) Program Areas

(As appropriate, please provide specific examples and suggestions for improvement.)

(1) The Performance Indicator Program provides useful insights to help ensure plant safety.

Comments:

(2) Appropriate overlap exists between the Performance Indicator Program and the Inspection Program.

Comments:

(3) NEI 99-02, “Regulatory Assessment Performance Indicator Guideline” provides clear guidance regarding Performance Indicators.

Comments:

(4) The Performance Indicator Program, including the Mitigating Systems Performance Index, can effectively identify performance outliers based on risk-informed, objective, and predictable indicators.

Comments:

(5) The Inspection Program adequately covers areas important to safety, and is effective in identifying and ensuring the prompt correction of any performance deficiencies.

Comments:

(6) The information contained in inspection reports is relevant, useful, and written in plain English.

Comments:

(7) The Significance Determination Process yields an appropriate and consistent regulatory response across all ROP cornerstones.

Comments:

(8) The NRC takes appropriate actions to address performance issues for those plants outside of the Licensee Response Column of the Action Matrix.

Comments:

(9) The information contained in assessment reports is relevant, useful, and written in plain English.

Comments:

Questions Related to the Efficacy of the Overall ROP

(As appropriate, please provide specific examples and suggestions for improvement.)

(10) The ROP oversight activities are predictable (i.e., controlled by the process) and reasonably objective (i.e., based on supported facts, rather than relying on subjective judgement).

Comments:

(11) The ROP is risk-informed, in that the NRC's actions and outcomes are appropriately graduated on the basis of increased significance.

Comments:

(12) The ROP is understandable and the processes, procedures and products are clear and written in plain English.

Comments:

(13) The ROP provides adequate regulatory assurance, when combined with other NRC regulatory processes, that plants are being operated and maintained safely.

Comments:

(14) The ROP safety culture enhancements help identify licensee safety culture weaknesses and focus licensee and NRC attention appropriately.

Comments:

(15) The ROP is effective, efficient, realistic, and timely.

Comments:

(16) The ROP ensures openness in the regulatory process.

Comments:

(17) The public has been afforded adequate opportunity to participate in the ROP and to provide inputs and comments.

Comments:

(18) The NRC has been responsive to public inputs and comments on the ROP.

Comments:

(19) The NRC has implemented the ROP as defined by program documents.

Comments:

(20) The ROP minimizes unintended consequences.

Comments:

(21) You would support a change in frequency of the ROP external survey from annually to every other year, consistent with the internal survey, as proposed in SECY-06-0074.

Comments:

Please provide any additional information or comments related to the Reactor Oversight Process.

Dated at Rockville, Maryland, this 2nd day of October, 2006.
For the U.S. Nuclear Regulatory Commission.
Stuart A. Richards,
Division of Inspection & Regional Support, Office of Nuclear Reactor Regulation.

[FR Doc. E6-16641 Filed 10-6-06; 8:45 am]

BILLING CODE 7590-01-P